DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending June 30, 2017. For purposes of this listing, long-term residents, as defined in section 877(e)(2), are treated as if they were citizens of the United States who lost citizenship.

Last name | First name | Middle name/initials
ABBUEHL BURKE | PAMELA | SUE
ABCHEE | ANTOINE | BERNARD
ABERG | STEVEN | NOWLIN
ABROMOWICZ | MARC | RICHARD HEINRICH
ABUDAWOOD | EBTEHAL | ANAS
ABUDAWOOD | ELAFF | ANAS
ABUDAWOOD | ENAS | ANAS
ABUSAQ | ABDULLAH | HUSSAIN
ACIKYUREK | MUSTAFA
ADAMA | INGE | MARCHIA
ADAMOPOULOS | LIANNE
ADAMS | LYNNE | ROBERTS
ADAMS | SAMANTHA | ZOE
ADHAMI | NORA
AERTS | RONNY
AHAMED | ADEEL | AZIZDIN
AHLBORN | HEINZ | GERHARD
AIELLO | FRANCESCO | LUIGI
AITKEN | MICHAEL | JAMES
AJLAN | SALAH | SALIH
AL-ATHEL | SETTAH | FAHAD
ALBERS-HOUDE | RENEE | CHRISTEL
AL-DHAHERI | ALI | OBAID
ALEXANDRA | JASMINE
ALFRED | NANCY | JEAN
ALGERA | HENRY | FREDERICK
ALJALAJEL | MOHAMMAD | ABDULRAHMAN
AL-KASSABI | ABDULA
ALKHABORI | HUSSEIN | SALEEM JAWAD
ALLEN | HEATHER
ALLEN | VICTORIA | MARY
ALLERBY | ANDREW | J.
ALLRED | NATHANIEL | CHARLES
AL-MANSOOR | MASOOR
AL-MAZROA | SULTAN | SULIMAN
ALMOALLIM | ABDULAZIZ | MAZIN
ALMOALLIM | OMAR | MAZIN
ALSANEI | SALEH | ABDULLAH
ALSUDIRI | LATIFAH | ABDULLAH
AL-SULAIMAN | BADR | A
AL-SURF | MOHAMMED | SAIED
AL-THANI | JASSIM | MOHAMMAD
ALTMAYER | BERTRAND | FRANCIS
ALTUWAIJRI | ESAM | ALI
AL-UBAID | ANAS | ABDULRHMAN
ALVAREZ | ALICIA | MARIA
ALVAREZ | JOSE | FRUCTUOSO
AMADOR | MOLLY | M
AMIN | RYAN | MOHAMMED R
AMIRAULT-LANGLAIS | DIANE | LOUISE
ANDERFUHREN-WAYNE | CYNTHIA | S
ANDERSON | CAROLYN | FAYE
ANDERSON | JON | BRADLEY
ANDERSON | MARIA
ANDERSON | NICOLE | DIANNE
ANDERSON | WILLIAM | GRIFFIN
ANDREWS | JILLIAN | ANNELI
ANDREWS | JOHN | TODD
ANGKASA | RONNY | HADIANA
ANNERINO | JACQUELINE | CATHERINE
ANSONS | OLIVER | GUNARS
ANTTURI | MARJA | HELENA
ANWAR | GARRETH | CHRISTOPHER
AQUINO | SUZANNE | SANTOS
ARCENEAUX | CLYDE | GLYNN
ARCENEAUX | MONA | JANE
ARCHAVSKIJ | LEONID | M
ARIF | LAITH | AWNI
ARMSTRONG | MAUREEN | ELIZABETH
ARONSON | JEREMY | MARK
ARTEAGA | MARCO | SEBASTIAN
ASHBY | ROBERT | JAMES
ASHENHURST | REBECCA | LOSEE
ASHMORE | SCOTT | CYRIL
ASHRAQ | KHALID
ASHTON | CHRISTOPHER | KAWIKA
ASSI | MAUREEN | ANNE SHADEED
AW | KAILER | JONAH
BAAR | DAVID | WILLIAM
BABA | KAORU
BACHMANN | PETER | MATTHIAS
BACKMAN-BEHARRY | BRYAN | DAVID
BACON | DIANE | MICHELLE SEGUIN
BACON | GAIL | AUDREY
BACON | SHELLEY | JOHN
BADENHERST | GESINA
BADER | ANDREA | JEAN
BAENZIGER | ALEC | IAN
BAENZIGER | LOIC | STEVE
BAERTSCHI | ANNE-MARIE
BAHRT | NICHOLE | KATRINA
BAKER | GARNEY | GLENN
BAKER | JASON | BRIAN
BAKER | SUZANNE | FARRYL
BAKHSHIAN | ERVIN
BALDASSARRI | JASON
BALL | MOLLY | ELIZABETH
BALSARA | ANDREA | KAY TORREY
BAMBERGER | KARIN | LOUISE
BAMRAH | ALIA
BANK | BARBARA | ELLEN
BARKER | JEAN
BARNES | CAROL | ANN
BARTELT | SUSANNE
BARTOO | TIMOTHY | GLENN
BASILIUS | LENTCER
BATARSEH | EID | ISSA SALEM
BATARSEH | FOUZIEH | ISSA
BATCHELER | FRANCIS | DAVID
BATCHELER | ROSA
BATT | WILLIAM | GERHARD
BAUCKMAN | STEPHEN | ALLEN
BAUMANN | RYAN | DANIEL
BAXTER | RACHEL | ANNE
BAYES | AARON | MARSHALL
BEAUDOIN | PAUL
BECKERMANN | CHRISTINE | MARGARET
BECKERMANN | GABRIELLE | JEAN
BEDARD | SHAWN | ANDREW
BEESLEY | PIERS | OLIVER
BEETSTRA | ANNE | CHERYL LACEY
BELANGER | SUZANNE | MARIE
BELCHAM | KELDA | ALEXANDRA
BELL | ELIZABETH | NADIA
BELLANTONI | STEPHEN | J
BELL-SMITH | PHILIP | PRESTON
BENDIXSON | STEPHEN
BEN-ISRAEL | NOGA
BENNE | KARL | MARTIN TOBIAS HANSELMANN
BENNETT | PIA | SEELI
BENSON | MADELEINE | RUTH
BERAHA | NIKOLA
BERGER | CHRISTINE | ANNE
BERKELHEIMER | WANDA | KAY
BERKLEY | ANDREW | JOSEPH
BERNHARD | DAVID | STEVEN
BERNSTEIN | LARA | ALEXANDRA A. R. K.
BERTAGNA | CHRISTINE | DANIELE
BERTHIER | ANJA | DOMINIQUE
BEURSKENS | GOVERT | MATTHEUS
BIELER | LORAINE | EMANUELLE
BILODEAU | VICKY | RENETTE
BINKERT | PHILIPP | DANIEL
BIRRER | DANA | ELENA
BISHOP | HUGO
BISHOP | RANDALL | CLARK
BISSIG | MARCO | ANTONIO
BLACK | JOANNA | MIRIAM
BLAKE | CHRISTOPHER | JAMES
BLAKE | KEVIN | JOHN
BLAKE | RAYMOND | WILLIAM
BLASER | KATRIN | SUSANNE
BLOCH-NEVITTE | SUSAN | MARY
BLOCK | ANNE | MARIE
BLOEMHARD | JEAN | MARC
BODOCZKY | PETER | ISTVAN
BOGLE | ARTHUR | ANTHONY
BOLLA | JESSICA | LEIGH
BOLLIGER | LINDA | GAIL
BOLTON | VALERIE | ANNE
BOLTON | WILLIAM | JOHN
BOND | LINDA | KAY
BONICATTI | PATRICIA | WAINWRIGHT
BONZON | CORALIE | MARIA
BORRELLI | FRANCES | ROS
BOSCOE | POLLY | LOUISE
BOUCHILLOU | LAURA | CATHERINE
BOUGARY | ABDIA | A
BOUTIN | GUY | RICHARD MAXIME
BOVE | GUY | THOMAS
BOYD | KIM | MARIE
BOYER | JACQUELINE | JOY
BRADY | CAROL | E.
BRADY | JONATHON | MARK EDWARD
BRADY | KIERAN | M.
BRANDT | MARTHA | DIS
BRAZIER | VERONIQUE | MARIANNE VALENTINE
BRENCIC | ELIZABETH | NICOLE
BRENNAN | AMANDA | JANE
BRENT | MARTHA | JEAN
BRIDGES | EMMA | JANE
BRIGGS | KATHERINE | THERESA
BRISBOIS | AMANDA | JOHNSON
BRISSY | FRANCOIS | YVON
BRITTAN | STEVEN | LOUIS
BROCKLEHURST | SARAH | LOUISE
BROUSSEAU | JOSEE | PIERRETTE
BROUWER | GIJSBRECHT | JACOBUS DIEDERICK
BROWN | WILLIAM | THOMAS
BRUNNER | NINA | EMILIA
BRUS | CECILE | ELIANE
BRYCE | EMMA | PATRICIA
BUCK | DEBORAH | ELISE
BUKOJEMSKY | STEFAN | J
BULASWAD | NOUWAF | MUBARAK
BULLER | KIMBERLEY | JEAN
BURAWOY | ROBERT | GEORGE
BURGER | NICOLA | RAFAEL
BURGIN | VICTOR
BURKE | PETER | LUC RAYMOND
BURNS | BRANDON | LAIRD
BURNS-FIERLINGER | HADLEY
BURNSTAD | JOELLE | ELIZABETH
BURTON | ADAM | GEOFFREY
BURTON | SHARON | LOUISE
BUSER | KARIN
BUTLER | STEPHEN | PATRICK
BUTLER-JENKINS | PAMELA
BYE | ROBERT | EDWARD
BYERLEY | JOHN | JOSEPH
CAFLISCH | DEE | ANN JOY
CAIADO | CASSANDRA | ELIZABETH
CAJKO | LARA | ANNAMARIE
CALDWELL | BRENDA
CALLANDER | BOBBIE | MAY
CAMERON | JOANNE | SCHEUER
CAOUKI | ANTHONY | JAMES
CAPLAN | LINDA | HARI
CAPLAN | LISA
CAPOGNA | NANETTE | LEE
CAPT | GLORIA | COSTANZO
CAREY | SIKA
CARNOCHAN | DAINA | ANDRA
CARR | ANN | MAUREEN
CARTER | KIRSTEN | JAYNE
CARTIER | LYSE | MELOCHE
CASEY | MARY | EILEEN
CENTATIRMPO | ANNA | MARIA PUDDU
CERIANI | ALESSANDRO
CHAI | EPHREM
CHAN | ADA | YUEN-FUN
CHAN | KARMEN
CHANG | ANDREW
CHANG | JOHN | WEN JUN
CHANG | MARGARET | Y S
CHANG | SUNNY | JUNG-SHANG
CHANG | YAO-CHUNG
CHAO | SAMUEL | CHI YEN
CHARAMIS | ALEXIA
CHARLAND | BERNARD
CHARLES | JOHN | ELTON
CHARLTON | CELIA | MARIAN
CHARLTON | SUSAN | MARIE
CHASSOT | DENISE | MARIA
CHAU | PHILIP | TAK WING
CHAVES KOEHLER | PAULA | MENEGHETTI
CHAW | PEGGY
CHEN | ANDREA | C
CHEN | JEFF | HUNGCHE
CHEN | LIANG | YU
CHEN | LIMING
CHEN | PENELOPE | YOSHIKO
CHEN | SHERRY
CHEN | WAYNE | HWAY-TZE
CHEN | YONGSHUN | JOHN
CHENG | PAUL | LAP TAK
CHENG | SHU | RONG JOANNA
CHENG | TIAN | YOU
CHEONG | IVY
CHEW | STEPHANIE
CHIARI | JOAN | MARIE
CHIEN | PO-HAN
CHINNAPONGSE | SITHIPHOL
CHOI | GRACE
CHORN | VERNON | LIONEL
CHOW | DRAFUS | CHUN-RAY
CHOWNE | EMILY | LOUISE
CHOYCE | LESLEY | WILLIS
CHRISTIANSEN | DEBRA | ANN
CHRISTOU | NORMA | ANN
CHU | ALISON | LILLIAN
CHU | HOWARD | HO HWA
CHU | LAI
CHU | MING-EN | CHARISSA
CHU | TZU-HAO
CHUANG | SHIRLEY
CHUDNOVSKY | JOSHUA | ALEXANDER
CHUI | KAR LAI | CLARE
CHUNG | CHRISTINE | P
CHUNG | JASON | J
CIUFFA | SABINA
CLARK | AMIE | NICOLE
CLARK | MATHEW | KENT
CLARK | ROBYNNE | DALE
CLARKE | LUCY | MARIE
CLATTENBURG | MICHAEL | PATRICK
CLAY | OLIVER | KEATINGE
CLEIS | DANIA
CLOUTIER | PIERRE
COALES | UNA | FRANCESCA
COCHRAN | CARRIE | MAY
COERS | JOHATHAN | DAVID
COGNET | BRUNO | PASCOL
COLE | BIRGIT | ANNA
COLEMAN | CHRISTOPHER | LOUIS
COLES | JILLIANNE | LYNETTE
COLLON | CLAUDINE | JOHNSTON
COLTON | CHRISTOPHER | JAMES
CONDRON | MARK | JAMES
CONNORS | KAYLA | ELENA
CONNORS | MARCI | LYNNE
COOK | AMANDA | MICHELE
COOPER | KARA | SUZANNE
COOPER | KRISTIN | ELIZABETH
COPELOVITZ | GARY | ISAAC
CORCORAN | SUZANNE | SHEEHAN
CORDELL | ELIZABETH | KAITLIN
COREN GOLDMAN | DEBRALEE | L
CORMIER | JED | JOSEPH LA LUMIERE
COUETTE | OLIVER | MARIE
COUGHLIN | HEIDI | LOUISE
COUTTS-ROUT | MICHELE | ANDREA
COUTURE | ELIZABETH | JOST
COWLEY | DAVID | CHARLES
COWLEY | DONNA | GULLETTE
CRAWFORD | LINDA | KAYE
CREIGHTON | BERNARD | SYDNEY
CRIGHTON-BUCK | TAMMY | CECILE
CROISIER | CHANTAL
CRONIN | ELISABETH | CELESTE
CROTTA | AGNESE | NERINA
CRUESS | ANDREW | COCHRANE
CUETO | JAVIER
CUETO | PABLO
CUNNINGHAM | JANINE
CURRIE | MICHAEL | JOSEPH
CZEMPER-LIOPIS | NILS
D'ADAMO | FRANCK | ANTOINE
DAHL | PATRICIA | JACQUELINE
DAITZ | ANDREW | DAVID
DALTON | MATTHEW | LYNN
DAMJANOVIC | NIKOLA
DANESH | HOMAYOUNDOKKHT | JAHANSOUZI
D'ANGELO, JR | THOMAS
DANIEL | ANNE | ELIZABETH
DANIEL | PETER | DAVID
D'ARI | RICHARD | ARTHUR
DAUTERMANN | JENNIFER | JEAN
DAVATZ | STEFAN | PHILIP
DAVIS | BENJAMIN | JOEL
DAVIS | LILA
DAVIS | MARK | STEVEN
DAVIS | RICHARD | STANLEY MAURICE
DAWSON | ANSLEY | VIRGINIA
D'CRUZ | EMILY | MOULTON
DE BARY | CONSUELO | ISABEL
DE BOER | KARRIN | OBED
DE HAAN | TODD | LEE
DE JESUS | MICHAEL | OSMENA
DE LA VALLIERE | OLLIVIA | MARIE
DE LADURANTAYE | MARC | DAVID
DE LADURANTAYE | PHILIP | LAURENT
DE LADURANTAYE | PHILIP | LAURENT
DE MONTJOYE | DOUGLAS | F C
DE MOOR | ANNICK | LINE
DE PASS | NORMAN | LESLIE
DE PASSILLE | CLAIRE | MARIE
DE SOUSA | VASCO | PHILLIP
DEBHAKAM | MILIN
DEEN | ROZANY | R
DEFEHR | ROCHELLE | JACQUELINE
DEGELMAN | JANET | LEE
DEL VALLE | GEORGE | CHRISTIAN
DELCOURT | MICHELE | DENISE GERMAINE
DELVAUX | JEREMY | OLIVIER
DEMARET | NANCY | A
DENEIKO | KATHERINE | MEGHAN
DENIG | JOHN | FREDERIC
DESCOURS | JACQUES | REGIS
DEVANATHAN | LATA
DEVERALL | LLOYD | JAMES
DEWALD | ROSEMARY | MARGARET
DEWINTER | ROBERT | LEONARD
DEWJI | ADAM | SOLOMON
DEWJI | ALLYKHAN | SADRUDIN
DEYOUNG | PATRICIA | ANN
D'HUYSSE | CHARLOTTE | MYRIAM DELLA FAILLE
DI DONATO | LORENA
DI STEFANO | PAUL
DIEPEVEEN | SUSAN | VAN LAAR
DIERICKX | PASCAL
DIETRICH | MONIQUE | B
DIGEMOSE | CHRISTIAN | ANDERS
DIGGINS | TIMOTHY | ROBERT QUINN
DILLMAN | JOAN
DIONISI | MARCO | FABIO
DIOTTE | MARIE | AGATHE
DISNEY | CHRISTOPHER | SCOTT
DMYTRIEV | OLEKSANDR
DOBSON | SHAUNA | DEL
DODDS | MARY | COLLEEN
DOMES | SAMUEL | ALBERT
DONALDSON (NEE: DAY) | CAROLYN | SUE
DONZE | JENNIFER | PATRICIA
DOOLEY | PETER | ELLIOTT
DOUCET | CYNTHIA | ANN
D'OUSSELGHEM | ARNAUD | DE KERCHOVE
DRAZ | ATTARID | JAWEED
DREYFUS | MICHEL | PIERRE
DRIESSEN | JOHANNES | HENDRIK
DRISKILL | ALEXANDER | MONTGOMERY
DROUIN | LISA | MANON
DRUEDENDAHL | HARALD
DUBENDORFER | VERENA | MONICA
DUECK | IRENE
DUECK | STEVEN | KELLY
DULCLOS | DENISE | JEANNE
DULING | RORY | L
DUNBAR | JULLIET | KATHLEEN NATASHA
DUQUENNE | ASTRID | NATHALIE
DZWONNIK | BEATA | LAURA
EARLE | NANCY | LOUISE
EARNHART | STEPHEN | LYNN
EASTEP | STEVEN | DENNIS
EBNER | ROBERT | PETER
EDBROOKE-CHILDS | JULIAN | HAMPTON
EDMONDS | DANIEL | HAO
EDWARD | JESSICA | ALEXANDRA MARGARET
EIRIKSON | CARL | HAAKON
EISNER-CIUCCI | ANN
ELATTARY | HUSSAM | MOHAMED
ELLIOTT | GERALD | SHANE
ELLIOTT | SEAN | JAMES
ELLIS | WILLIAM | MACKAY
ELMER | KARIN | ELSBETH
ELMIGER | STEVEN | RICHARD
ELSAESSER | DAMIAN | SHELDON
ELSENHANS | MELANIE | JEANINE
ELTES | JONATHAN | RYAN
ENGEL | CAMILLE | LIA
ENOCH | GAVIN | SIMON
EPP | MANFRED | WOLFGANG
ERICKSON | JON | LAROY
ESSES | MAURICE | I
EVANS | BARRY | ALBERT
FABBRI | BEVERLEY | P.
FAHRENBRUCK | JOY | ANN
FAIRHEAD | TYRREL
FALK | BEATRICE | INGRID
FALTER | THOMAS | ERHARD
FANCHER JR | MICHAEL | LYNN
FANCHINI | CATHERINE | ADRIANA
FANCHINI | JACQUELINE
FANG | CHIA-YU
FANTACCI | MARIA | VICTORIA
FANTACCI | MICHAEL | MARCH
FARRIS | SAMUAL | CHRISTOPHER SCOTT
FEIST | CHRISTIAN | PETER
FELLNER | JOYCE | ALISON
FERBACHE | CIARAN | JAMES
FERGUSON | BRUCE | ROBERT
FERGUSON | NANCY | MARIE
FERLAND | CELINE
FERLAND | LUCIE | CARMELLE
FERNHOLM | NICHOLAS | JOHN
FERRANDO | DAVID | ARREGUI
FERRI | JEAN | LAURA
FIELD | DANIEL | EUGENE
FIELD | LAURENCE | HAMILTON
FIELD | TRENT | CLIFFORD
FIERLINGER | PHILIP
FILGUEIRAS | CAROLINA | ALESSANDRA GUERRA
FISCHER | STEFAN | WALTER
FISK | BRENDA | CORINNE
FLAHERTY-REUSCH | ERIN | NOREEN
FLECHTNER | ROSWITHA | BRIGITTE
FLEMING | KATHLEEN | PATRICE RYAN
FLURI | MARIA | DOROTHEA
FORBES | PATRICIA | SETON
FORCEY | DANA | STARR
FORD | ARCHIE | RAYMOND
FORSTER | ROBERT | BERNARD
FORTIN | JEAN | MATHIEU
FOSTER | KELLEY | ANNE
FOSTER | SYLVIA | BRIGITTE
FOWLER | FRANK | FONTENELE
FOWLER | SUZANNE | STRATT
FRANCK | CARSTEN
FRANKS | SARAH | CAROLINE
FRANZEL | ANKE | MARIA
FRASER | RICHARD | SPARLING
FRASER | TABITHA | CHRISTIAN ANNAND
FREEDMAN | JODY | MARCUS
FREIMAN | KATE | MIRIAM
FREMERY | NIKOLAUS | IVAN
FRESCHI | PAOLO | FEDERICO GIUSEPPE
FREY | MIA | ZOEY
FREY-HASEGAWA | ERIKA | ANITA
FRIESEN | SARAH | ELIZABETH
FROEHLICHER | MARC-ANDRE | STEPHANE
FROEHLICHER | PASCAL | ROLAND CHARLES
FROEHLICHER | SYLVIE | NADINE VERA
FROSCHMAYR | RUDOLPH | ANTON
FROWEIN | ALEXANDER | R
FRULLO | MARSHA | JEANNE
FRY | CATHERINE | JEAN
FRY | WILLIAM | GORDON
FRYER | RITA | ANNE
FULLER | CHRISTOPHER | RAY
FUNG | DANIEL | YAN-WEI
FURRER | EVA | MAE
GABRIEL | BRADEN | FARREN
GABRINI | ANNE-MARIE | ELIZABETH
GAEDE | WILLIAM | LEE
GALLUP | RALPH | LAWRENCE
GAMA | MELINDA | MARIE
GAMBOA (AKA BUJAZAN) | SANDRA | MARIE
GANAN | ESTER
GANSEL | KENNETH | A
GANZHORN | THILO | PETER
GAO | ZHONGXIANG
GARDNER | LON | RAEBURN
GARRETT | DANIEL | PATRICK
GAUDER | GLENN | RICHARD
GAUPMANN | FERDINAND
GAUTIER | THIERRY
GEORGE | JAMES | SAMUEL
GERETH | BETTINA
GERMERAAD | JASPER | KEVIN
GERVAIS | MI | RANG CHO
GEVAERT | JOAN | NANCY
GHESQUIERE | KRISTEN | JOY
GIBBS | MARGARET | MARY
GIBSON | STEPHEN | D
GILBERT | MARY | MARGARET
GILL | GAYLE | KATHLEEN HAMILTON
GILL | ROWENA | AGNES
GIROUX | MARY | JO
GITTENS | JARONE | PATRICK SOUTHER
GLAUSER | ALEXANDER | ANTHONY
GLEN | FIONA | KATHERINE
GLENDENNING | CHRISTINE | ANN
GLICK | YEHUDAH | YEHOSHUA
GLICKMAN | SUSAN
GLIDDEN | CLINE | ASTOR
GLIDEWELL | PETER | CESARE
GOETZKE | LUC | FRANCOIS TERRY
GOGUEN | JACQUELINE | MICHELLE
GOH | ZACHARY | KOON-HAN
GOLDBACH | BRIAN
GOLDFINCH | MARIE | DIANN
GONSER | THOMAS
GONZALEZ | JORGE
GONZALEZ | RENE
GOODMAN | SHAUN | GEOFFREY
GORDEN | ROBERT | JOEL
GORDON | ANTHONY | DAVID
GOULET | KRISTIAN | BERNARD
GRADENER | NICOLETTE
GRAHAM | MARY
GRAMMATIKOS | THEOHARRY
GRATTON | SUZANNE
GRAY | ROSS | WILLIAM
GREENBERG | HOWARD | DAVID
GREENMAN | STEPHEN | IAN
GROSS | FRANZ | XAVER LAENGMUELLER
GRUBER | MARCEL-ANDRE | RAPHAEL JUERGEN
GRUBER | MAUEL-RENE | RICARDO GUENTHER
GRULLON | MELBA
GUBITZ | DOUGLAS | ADAM
GUIDA-NESTEL | KAREEN | MARIA THEORA
GUIGUET | KRISTINA | MARIE
GUPTA | SHAILENDRA | K
GUSTAFSON | CHRISTOPHER | GEORGE
GUTIERREZ-MATURANA | BARBARA
GWERDER | NICOLE | CARMEN
GWILT | DAWN | ELIZABETH
HABGOOD | JOHN | ALAN
HACKBARTH | ANN | MARIE
HACKEL | ALESSIA | SOPHIA
HADDAD | DIANA | INES
HAEFELI | PATRICIA | BRIGITTE
HAGE | SORINA | MONIQUE
HAILSTON | JOSEPH | STEVEN
HAILSTONE | LINDA | ANN
HAILSTONE | SAMUEL | NICHOLAS WALKER
HAJNAL | MARK | NICHOLAS
HALL | ANDREW | GRAHAM
HALLBERG | ANDERS
HALLETT | DEBORAH | PETERSON
HALVORSEN | TORBEN
HAMEL | CHERIE | AMM
HAMILTON | SCOTT | JAMES
HAMPSON | DINAH | MARIE
HAN | NI | L
HAN | ZHEN | FA
HANABERGH | MERCEDES | MARIA
HARMON | PAUL | ROBERT
HARPP | DAVID | NOBLE
HARRIS | ROBERT | PATRICK
HARRIS | STEPHEN | JOEL
HARRY | CAROLYN | DEAN
HART | CHRISTOPHER | O'NEAL
HART | RITA | JUDITH
HARTEL | ENE | LISA
HARTMAN | CELINE | S
HARTMAN | CRAIG | THOMAS
HARVEY | STEPHANIE | ELAINE
HASHIMOTO | MASAKO
HAUPT | SARAH
HAUSER | FRITZ | ROBERT
HAUSER | PHILLIP | JOHANNES
HAY | JAMES | BRUCE
HAYES | RICHARD | ALLEN
HEALY | CAROL | ANN
HEATHCOAT-AMORY | SARAH | ARABELLA MARJORIE
HECKENDORN | JUDITH | DORIS
HEDGES | KATHERINE | ANNE
HEERSINK | JOHANNA | RUTH
HEICK | CAROLINE | ELIZABETH
HEIDE | RANDAL | SCOTT
HEINRICH | ELEN | EMIKO
HEITLAND | IRENE
HEITMANN | MASA | MARTHA
HELFERT | ANNE | L
HELLER | CHARLES | SEBASTIAN PAUL PA-SANGS
HELLER | MICHAEL
HELLIWELL | KATHARINA | EVA
HELMS | HENRY | CHRISTIAN
HELTING | HOLGER | TORSTEN
HEMSING | LINDA | RUTH
HENSEN | JOEL | MATTHEW
HENSON | CONNIE | DEE
HENSON-LUKAS | ALICE | MARIE
HERMAN | SARETTA | JOY
HERMAN-SPARTINELLI | DEBORAH | ANN
HERMANSSON | LINDA | MARIE
HERZ | KATHRYN | RENATE
HESSELVIK | JAN | FREDRIK
HESSELVIK | LENA | MARGARETA
HETHERINGTON | BRUCE | JAMES
HEUMAN | DANIEL | SIDNEY
HEUMAN | JUDITH
HEUMAN | ROBERT
HICKLENTON | KYLIE | ANN
HIGGINS-POSEINGER | ELIZABETH | ANN
HILDENBRAND-MALLORY | ANN | FRANCES
HINCAPIE | CARLOS | ALBERTO
HINCK | JAMES | ALAN
HINES | LORRA | ANN
HINES | SAM | J
HIPPENMEYER | MARGARET | JANE
HISLOP | KRAIG | RENE
HISLOP | STEPHEN | KAYNE
HOBBS | KATHRYN | RUTH
HOBSON | DAPHNE | L
HODGDON | CELESTE | ELAINE
HODKIN | BARBARA | J
HOEFFLEUR | OLIVER | CHARLES
HOEGG | JO | ANDREA
HOEGG | JO | LYNNE
HOERLER | REMO | BEAT
HOEVENAARS | HENDRIKUS | JOZEF MARIA MILAGROS RAPHAEL
HOFFMAN | FRANK | STEPHEN
HOFFMANN | CYNTHIA | BARCLAY
HOHLFELD | FRANCOIS | EDOUARD
HOLLENBERG | ABRAHAM | ANDREW
HOLMES | GEORGE | ARCHIBALD
HOLMES | TYLER | JUSTIN
HONG | LI
HONNEYSETT | ZAREK | BRIAN
HOP | DENNIS | JAY
HORITA | DAVID | MCLEAN
HORNER | MATTHIEU | HENRY
HOWELLS | ELIZABETH | ANNE
HSUI | ALVIN | YU WEN
HUANG | RANDY
HUANG | SHEN | KAI
HUANG | SHUYIN
HUANG | VIVIAN | H
HUBER-KOIZUMI | NEYSA | ANNE
HUDSON | MARY | ELIZABETH
HUEBSCH | GABRIEL | MAX
HUFFMAN-FERRIS | LEE | JANE
HUG | KERRY | LYNN
HUI | CHING | YING
HUI | RAPHAEL | YULHAY
HUNTER | WILLIAM | JACK
HUOT | FRANCOIS
HUPPI | OTTO | EMIL
HUR | MARILYN | MINKYUNG
HURLSTONE | RICHARD | ANDREW
HUSYIN | AIMAN | ABDULLAH
HWANG | YONGSUNG
IKEDA | MINORU
ILS | AMY | YIN-MAN
IMBACH | JEFFREY | DAVID
INGLIS | ANDREA | SCOTT
INGLIS | VICTORIA | MARIE
IRVINE | MATTHEW | LEE
ISHII | MASATOSHI
ISMAEL | SHEREEN | TAREQ
IWAN | BARBARA
JACK | HEATHER | LINEA VUORINEN
JACKLING | JANE | ALLEN
JACKSON | CAMILLE
JACKSON | MARK
JACOBSON | JOSEPH | KYLE
JAEGER | JULIE | ANN
JANONIUS | TERESA | CECILIA
JARVIS | CAROLYN | MANNERS
JATIA | GANESH | NARAYAN
JAVERI | JEROME | OMAR
JAYAPRAKASH | ANAND
JEANTY | BERNARD
JEFFRIES | DALE | LOUIS
JELINEK | LARRY | CHARLES
JENNI | KATALIN | EVA
JENNINGS | ERIC | THOMAS
JODKA | NICOLE | ALEXANDRA
JOHANNESEN | KARIN | EMILE
JOHNSON | AARON | JAMES
JOHNSON | ALLISON | ELIZABETH
JOHNSON | BEVERLY | EDITH
JOHNSON | MARY | EIKO
JOHNSTON | ELIZABETH | JANE
JOHNSTON | GARY | RAYMOND
JONES | ORIEL | BRONWEN CHRISTINA
JONES | RAYMON | NIGEL
JONES | TREVOR | JOHN
JOSELIN | MARY | LILIAS
JOSHI | DEVENDRA | KUMAR
JOST | LESLIE | MARGARET
JUCHIMENKO | VICTOR | JOHN
JUNKER | ALIA | ELIZABETH
KADISHAY | AMIR
KAMMEIJER | QUINTEN
KAMPEN | MARGIE
KANAMOTO | NORIKO | ELLEN
KANAZAWA | YUKI
KANG | JI | YOUNG
KAPLAN | DEBORAH | SUSAN
KAPP | NEIL | STEVEN
KARRFELT | YIVA | KRISTINA
KASHANSKI | SUSAN | HARVEY
KASS | PEARL | PAULINE
KATZ | LAURIE | MICHELE
KAUR-SINGH | MANJIT
KAWOHL | LINDA | J
KAYAMA | AKIRA
KAYAMA | MISAKO
KEANE | SHEILA
KECK | NANCY | JOAN
KECKWICK | VOLKERT
KEIDEL | WILLIAM | PETER
KEISER | KEVIN
KELLEHER | MARY | JANE
KELLERSTEIN | JENNIFER | EVE
KELLETT | JAMES | JEFFREY
KELLNER | GRETCHEN | LEA
KELLY | PHILIP
KENNEDY | JOHN | THOMAS
KENNEDY | LISA | RENEE
KENNIFF | PATRICK | JOHN
KENYON | VIRGINIA | J
KEPPER | ARIATI | KARINA IRINI
KEPPER | NATASHA | RAUDIA I
KERR | HELENE | PAULA
KHOURY | CYNTHIA | EL
KHOURY | NAMEER | SUHAIL
KIBLER | SUSAN | GAIL
KIERS | WENDY | ARENDINA
KILIAN | DANUTA
KILLER | DONNA | AGRELL
KIM | HEE | JIN
KIM | MICHELLE | MIKYEONG
KIM | OK | HEE
KIM | SIMON | YUNG JIN
KING | BRADLEY | A.
KING | ELIZABETH | CAROL
KING | ROSALBA
KING | SUSAN | AVERIL TAYLOR SMITH
KINGSLEY | JEMIMA | KATHARINE
KINGSLEY | OCTAVIA | ANNE
KIPER | JACQUELINE | ANNE
KIRK | JULIA
KIRK | MOLLY | KRISTIN
KIRKPATRICK | NEVEN | JOHN
KIRSCHNER | PAUL | ARTHUR
KIRSCHNER | TERESA | JACAS
KLEIN | URSINA
KLEPACKI | BENJAMIN | DAVID
KLIJN | MACHTELD | CORNELIE
KLINE | HEY | LAN
KLINGE | JOHN | WILLIAM
KOECHLIN | LESLIE | ANDREA
KOELLE-SCHNEIDER | PATRICIA | IRINA
KOGGEL | CHRISTINE | MARY
KOH | GLENN | LIM-JIE
KOHL | ANNE | MARIE
KOIZUMI | SHUN
KOJIMA | MAKIKO
KOKA, JR | ASDREN | DREW
KOLLER | LAURA | ELISABETH
KON | BRANDON | RICKS JUNJIE
KONSCHAK | KLAUS
KOO | VICTOR | WING CHEUNG
KOPELMAN | MAGGY | KOTOK
KORB | EMILY | JIHAE
KORB | KEVIN | BURT
KORODY | KORNEL
KORTE | ANTHONY | P
KRAEMER | MONIKA | SUSAN
KRAHN | RHONDA | FAYE
KRALICEK | CURTIS | ALLAN
KRAUS | ERICH | PRIDAY
KRAUSSE | MICHAEL | HELMUT
KRUEGER | MARGARET | ELSIE
KRUSE | DANIELE | FRANCESCO
KUFER | KATRINA
KUMAGAI | KIMIKO | KODANI
KUPFERSCHMID | DENISE | MADISON
KURDI | IHSAN | KIM
KURIHARA | YUKIE
KURLAND | DEBORAH | JOY LIS
KURODA | ETSUKO
KURODA | NAGAAKI
KURZDORFER | BETTY | B
KWAG | RICHARD | HYUN
KWAPIL | URSULA
KWOK | ROY | SHUN KEUNG
LA CAZE | JOHN | THOMAS
LABONTE | NATHALIE | DENISE
LABONTE | NATHALIE | DENISE
LACERDA | MARIA | ISABEL
LACIN | TOLGA
LAFRANCE | CHRISTINE | MARION
LAGUE | GEORGES | DENIS
LAI | KATHERINE | LOUISE
LAI | PATTON
LAI | WANG-SUN | PETER
LAING | MARTHA | ZAVITZ
LALLEMENT | CLAIRE | MARIE GABRIELLE
LAMB | MICHELLE | KATIE ELIZABETH
LANDY | ALLYSON | CAROL
LANE | BARBARA | KAREN
LANE | BARBARA | SUSAN
LANE | KIM | MARIE KATHRYN
LANGER | SHELLEY | MARIE
LANGER | VIRGINIA | MARIE
LANGLEY | KARLA | LEE
LAPIDUS | SAMUEL | BENJAMIN
LAPTUTA | CHRISTINE
LARRIEU-LE BELLER | ELOA | JADE
LAUGHTON | FAITH | LOUISE
LAUREANO | PHILIP | ANTHONY
LAVRIL | CARINE | ANNE
LAWLER | LISA | LORRAINE
LE POIDEVIN | CHARLOTTE | ELIZABETH MASKERY
LEBLANC | PAULINE | HELEN
LEBLER | MARCUS | JAMES
LEE | ALICE
LEE | CHERYL | SHI-YING
LEE | CLARK | CHUN
LEE | DANIEL | DAO-MING
LEE | EUGENE
LEE | HAROLD | KWOK
LEE | JAY | HEE
LEE | KEONHEE
LEE | KUG | JAE
LEE | LILY
LEE | MICHAEL | SUNGHYUN
LEE | RICHARD | CHI KEUNG
LEE | SABRINA | MAY CHU
LEE | SHAUN | TZEN
LEE | SHEN-LING
LEE | SOO | JIN
LEE AHN | HYE | KYUNG
LEEMANS | JARI
LEFAIVE | DOUGLAS | BRUCE
LEIB | STEPHEN | LOUIS
LEITMAN | BRUCE | HENRY
LEMMON | KELLY | BENJAMIN
LEOD-HUNTER | NEILL | SCOTT MAC
LEROUX | CELINE | MARIANNE CLAUDINE
LESHEM | AVIV
LESPINARD | VICTOR | MARIE
LESTARI | DORIS
LEU | JAMES
LEUNG | AMBROSE | YIN-POK
LEVESQUE | NICOLE | LYNNE
LEVIANT | MICHEL
LEVY | GREGORY | DAVID
LEVY | ZEEVA
LEWINS | SHELAGH | CHRISTINE
LEWIS | JONATHON | J
LEWIS | LOIS | ELAINE
LEYENHORST | ANNETTE | KAYE
LI | ALFRED | CHUN HEEN
LI | CHUN-YIN
LI | DONGXIAN
LI | GUO | SUI
LI | HSIEN-CHUAN
LI | JEFFREY | TING-HIM
LI | JING
LI | SIMON | CHI MING
LI | YUE | HUA
LIM | ELLEN
LIM | WESLEY | W K
LIN | CHIEN | JU
LIN | JAMES | CHE YU
LIN | SAMUEL | DAVID
LINCKE | CHRISTINA | GABRIELE
LINDEN | FRANK | ANDREAS
LINDENMAIER | MATTHIAS | WALTER
LINDON | ANNE | HOPE
LINDSAY | RICHARD | LYNN
LINDY | MARE | PHILLIP
LING | EDWARD
LING | KIRK | YU-CHI
LINNEMAYER | LISA | GAYLE
LINSKER | DURINDANA
LINSKER | ROBERTO
LINSKY | ANDREA | JOAN
LIPE | ALEX
LISS | ANDRE
LIU | CHEN | I
LIU | LEE-YU
LO | CARIN
LO | LOWELL | KWOK
LOABILE | CHRISTINE
LOCKE | MICHAEL | KA YUNG
LOFSTRAND | ANDERS | O
LONG | FUYOU
LONNEKER | MARGARET | SPRING
LOPATINSKY | ALEXANDRA | YURIEVNA
LOPEZ-APARICIO | EVA | M
LORENCAK | LENORE | LEE
LORZ | PETER | MICHAEL
LOUGHEED | ELIZABETH | LEE
LOVE | MICHAEL | LINDHART
LOVINK | ANTONY | RANSOME
LOW | DAVID | JOSEPH
LOW | SHIN | YUN
LOW | STEVEN | JUN-LIN
LOWE | JAMES | LAWRENCE
LOWES | MIRANDA | ARAMINTA
LOWEY | ELIOT
LOZIER | KARL | DAVID
LU | AVIN | CHI-WAI
LU | MEI | HO CHEN
LU | SIDNEY
LUCAS | SUSAN | KAY
LUDOLPH | RONALD | JAMES
LUI | JOANNA | CLAUDIA
LUNDGREN | ZACGARY
LUNDIN | WILLIAM | AXEL WALTER
LUNG | JESSE | CHEN
LUPIEN | CHRISTINE | ANNE
LUSTY | DIANA | VIVIAN
LUU | PETER
LYNAR-REDERN | SEBASTIAN | DOMINIQUE PIUS ALBRECHT GRAF ZU
MAC FARLAND | CAROLINE | JULIA
MACAYA | ROMAN | F
MACDONALD | NANCY | ELIZABETH
MACHE | SASI | B
MACKAY | COLIN | ROSS
MACKENZIE | THOMAS | ARTHUR
MACKLIN | ADAM | DONALD
MACKLIN | LAURA | AYNSLEY
MACMILLAN | CHARLES | ALEXANDER
MACPHERSON | MARJORIE ANN | BOYD
MADDEN | ELAINE | JEANETTE
MAGALHAES | MARIANNA | CIDALE
MAHMOOD | SAIYEDA | R
MAI | BODIL | ANDERSEN
MAID | TERRY | MARC
MAINONE | MATTHIAS
MAIR | KATHLEEN | SHEEHAN
MAJOR | ANDREW | JAMES
MAJOR GALASSO (NEE: MAJOR) | DANIELLE | ELIZABETH
MAK | ERIC | K
MALANDRA | ESTHER | MARIE
MALCOLM | JAXQUELINE | IRENE
MALIKI | LIDIA | SYAHINDAH BINTI MOHD
MAMA-O | ABDULLAH | DERUPONG
MAMET | FRANCOISE | GABRIELLE
MANN | WILLIAM | JAGGARD CAMPBELL
MANZONI | MICHELLE | ANN
MARANTA | CARLA | JEAN STANLEY
MARBACH-HORISBERGER | ANDREA | ELISABETH
MARGIE | OLIVIA | SAMANTHA
MARGULIES | OLIVER | STEPHEN
MARION | CEDRIC | TAKEMASA
MARIZAN | MUHAMMAD | AZFAR BIN
MARJORIBANKS | CLAIRE
MARQUES | JANICE | MASCARENHAS
MARSDEN | STEPHANIE | ELIZABETH
MARSHALL | CHRISTOPHER | J
MARSHALL | HANNAH
MARSHALL | LEONIE
MARTEL | MARIE | MADELAINE JOCELYNE
MARTEN | WAYNE | EDWIN
MARTENS | RACHELLE | LYNN
MARTIN | DAVID | KENDALL
MARTIN | ELENA
MARTIN | NANCY | LOVELL
MARTZ | KRISTINA
MARUSIC | IVAN
MASON | FRANK | STEVEN
MASSEY | JONATHON
MAST | ALLISON | CHEYNNE
MATHIS | CHARLES | BRUCE
MATSON | BEVERLY | JO
MATSON | DONALD | HENRY
MATSUBARA | AKIKO
MATTHEWS | JOSHUA | DAVID
MAUNULA | TIMOTHY | LAWRENCE
MAXSON | JACK | DANIEL
MAZZANTI | VIRGINIA | MARIA
MC CLENNAN | SUZANNE | ELIZABETH
MC INTURFF | MARC | TREMAYNE
MC NAMARA | PATRICIA | ANN
MCADAMS | SHELBY | LYNN
MCCAIN | HILARY | JOAN NORRIE
MCCLEAR | MARY | EILEEN
MCCONNELL | GEORGE | MARK
MCCORD | KRIS | ELAINE
MCCREERY | ELIZABETH | KATHERINE ROSE
MCDONALD | KARLENE | KAY
MCDONALD | SARAH | DIANA
MCDOWELL | KENNETH | GEORGE
MCFARLANE | JANA | PATRICIA
MCFETRIDGE | BRENDA | LEE
MCGRAIL | SHANN | KATHLEEN
MCINTOSH | STUART | B
MCLAREN | CANDACE | JOYCE
MCMURTRIE | KATHLEEN | ANNE
MEGER | CATHERINE | MARIE
MEGNET | LIENHARD | ANDREAS
MEIJER | EVELINE
MEIJIDE | MARIANA | GARCIA
MELO | FEDERICO | FERNANDO
MENDES-SILVA | ANDRE
MENDEZ | GLORIA | P
MENDEZ | PATRICIA | F.
MENZ | FRANCES | GRAVES
MERCER | ASHLEY | MEGAN
MERCER | CHERRIE
MEREDITH | PETER | LOUDON
MERREN | SUZAN | ELIZABETH
MESHANKO | TRACY | LYNN
MESSIG | GERALDINE
METZ | EDUARDUS | A
MEUTER | DEMIAN | RICO
MEYLAN | JOELLE | ELIZABETH FALCONNIER
MICHAUD | JAMES | CARROLL
MICHEL | STEFAN
MICHELSON | SOPHIE | ENOCH
MICHENER | ALICE | BERYL
MICHENER | ROBERT | ROWLAND
MIGEM | TOM | VAN
MIKUS | CHRISTOPHER | ALFONS
MILFORD | SIDNEY | NEVIL
MILLER | BROOKE | ANDERSON
MILLER | DARL | EUGENE
MILLER | DAVID | JONATHAN
MILLS | MARGARET | JEAN
MILNE | JOHNNA | MARIE
MINARD | PHILIPPE | HUGUES PIERRE
MINER | ANNE | BRIDGET
MINIHAN | SEAMUS
MINZ | PERL | RACHEL
MISSIG | LEIGH | ALEXANDRA
MITCHELL | CELINE | BRUYETTE AKINER
MITCHELL | RAYMOND | FLOYD
MITTEN | RICHARD | CHARLES
MIYAZAKI | TAKASHI
MODEL | PHILIPPE | DANIEL
MOFFETT | MICHAEL | JAMES
MOLLNAU | NORA | R
MOLONEY | ADRAIAN | M
MOLONEY | PATRICIA | H
MONGES | GUILLAMUE | PAUL
MONNIER | ANTOINE | BLAISE
MONTGOMERY | BENJAMIN | P
MONTGOMERY | CARLA | MARIE
MOORE | CHRISTOPHER | MICHAEL
MORAES | THOMAS | MOSANER DE SOUZA
MORD | JASON | THOMAS
MORET | EDOUARD | CLAUDE
MORRIS | ETHEL | ANNE
MORRIS | LYNNE | SUSAN
MORRISON | PETER | KYLE
MORRISROE | JAMES | JOSEPH
MORTIER | JOHANNES | WILHELM
MOSCONA | TAMARA
MOSHINSKY | SIDRA | KRANZ
MOTOE | TAICHIRO
MOUNTS | VICKI | DEBRA
MUELLER | BRIGITTE | SABINE
MULGREW | AYISHA
MULLAN | SUSAN | LUCILLE
MUNCK | CAMILLE | ANAIS
MURRAY | NICOLE
MUSACCHIA | CHRISTINA | ANNE
MUSITANO | KORRIE | ANN
NADESWARI | YEESHA
NAEGELIN | THOMAS
NAGATA | KEIKO
NAGGIAR | CAROLINE
NAM | LINDA | YOOSEON
NAM | NAN | SOOK
NANCHEN | BEATRICE | ANNE KERN
NAUGHTON | DENIS | PATRICK
NAY | BRETT | KYLE
NAYAR | KAMALA | ELIZABETH
NAYAR-KINGWELL | SUNITA | MARIA
NAZER | HISHAM | LOAY
NEE | EVGENYA
NELSON | NAOMI | ALEXANDRA
NEPI | MONICA
NESBITT | CHERYL | ANN
NEUFELD | MARJORY | AMELIA
NEUHAUS | SCOTT | RICHARD
NEUMAN | ARAVINDA | DAVID
NEUMAN | JOSEPHINE | ANN
NEWCOMBE GIROUX | PETER (AKA PIERRE)
NEWMAN | AMANDA | JANE
NG | EVA | YEE MAN
NG | MAN | FUNG
NG | MATTHEW | CHER-WAI
NG | NICHOLAS | HON BOON
NG | SIMON | SIU-MING
NG | SZE | NOK SENIA
NG, JR. | MATTHEW | TAM TAN
NGUYEN | ANDREWS | LINH
NIBLER | JONATHAN | MICHAEL
NIDAY | JODI | MARIE
NIDAY | MICHAEL | WALLACE
NIDEROEST | PETER | DWIGHT
NIGRO | LEONARDO
NIR | MICHAL
NISSEN | CHRISTOPH | PETER
NONHOF | ROBBERT | FRANK
NOTZ | RYAN | ANDREW
NOVA | ANDRE
NOWICKI | BROOKE | HARMON
NOWINA | CYNTHIA | ANN
NOWINA | KATHRYN | DOROTHEA
NUGENT | PAUL
NUZZI | PETER | ANTHONY
O'CLEIRIGH | MARGARET | ELIZABETH
O'CONNELL | KEVIN | ALLEN
OCONNOR | LARKEN
O'DOWD | MICHAEL | PATRICK
OESTERREICHER | KATHARINA | ALEXANDRA
O'HARA | ANDREW | NEIL
OHNO | KEIKO
OKAWA | TERUMI | TERESA
OLIVARI | RINALDO | MICHELE
OLIVEIRA | ANA | SOFIA TAVARES
OLIVER-WORLF | WYATT | SIR RED
OLSSON | ERIK | ALEXANDER
OMMANNEY | RAGNII | INGELA
OMURA | EIKO
ONDRACEK | JAY | LYLE
OOI | YU | TING
OPHEIM | GILBERT | EARL
O'REILLY | GERALD | V
ORSKI-SCHULE | JOCELYNE
OTT | KAREN | ELAINE
OTT | KENNETH | RICHARD
OTT | MAUREEN | AGNES
OUBOTER | JUDITH | DE BRUYN
OZAKI | MIKIO
PAEK | ALEX | HAEIN
PAETKAU | DAVID | GEORGE
PAIJENS | KELLY | S
PAJAROLA | RICCARDA | CRISTINA
PALLIER | ANTHONY | GILLES
PALTIN | OLEG
PAN | OLAI | WILLIAM VANDER
PANG | JEAN | SUI-KAM
PANG | MOIRA | SZE-MIN
PANU | ANUKUL
PAPIA | LOUIS | JOSEPH
PARBHAKAR | NEENA
PARENT | CLAUDE
PARK | EUN | JOO
PARK | JIEUN
PARK | MARGARET | MARY
PARK | SEAN
PARK | SUSAN | ARAH
PARKER | MOIRA
PARLETTE | DIANE
PASCAL | PHYLLIS | BARBARA
PASQUIER | MAXIME | KILIAN LEO
PASS | DOUGLAS | JOHN
PATEL | ANKIT
PATEL | PRAKASH | CHANDRA
PATEL | VIDHYA | H
PATON | SUSAN | LINDA
PATTERSON | LIANE | HOLLY
PATTERSON | ROBERT | COLIN
PEACOCK | PAUL | S
PEGGS | JONATHAN | KENNETH
PEI | JINLIN
PELLEGRAM | ANDREA | ANN
PENNINGTON | WILLIAM | HAROLD
PEPIN | MICHELLE
PEPPERDAY | ANITA | BEATRICE
PERALTA | LUIS | FERNANDO
PETRY | JOSEPHINE | DONNA
PETTY | STEVEN | FABIO
PETURSSON | CLAIRE MARIE | ELIZABETH
PEYER | ANN | DOROTHY
PHILLIPS | REBECCA | NOEL
PIASECKI | WOJCIECH
PICARD | PIERRE | FRANCOIS
PIETSCH | JACQUELINE | JEANETTE
PILLOUD | CHLOE | MICHELLE ARLETTE
PISTRANG | NANCY | ELLEN
PIZANO | OLGA
PL | CHEIN | YAO
PLANTE | FRANCOISE | YOLANDE MARIE
PLENERT | DELORES | JEAN
PLOUFFE | LINDA | MARIE
POCZA | VERONICA | BLISS
POLIKAR | GREGOIRE | LUCAS
POLLACK | SHOSHANA | LISA
POMMEPUY | GILBERT | JOSEPH
POMPER | RUDY
POPOFF | VICTOR | ALPHONSE
PORTER | CAITLYN | MARIE
PORTER | NINA | I
POSEN | GAIL | ESTHER
POSTMA | KARISSA | EVELYN
POSTMAN | KAREN | LORENE
POULIN | DANIEL | JOSEPH
POULIQUEN | MAELAIG | SANDY
PREISWERK | FRANK | ANDREAS
PRIETO | LUIS
PROUT | BRINA | LUDWIG
PSYCHOYOS | NICHOLAS | ANTHONGY
PURVIS | KARI | KRISTI
PUTTICK | JENNIFER | LINDSAY
QUADRI | ROGER | UGO
QUAIL | KEVIN | STEVEN
QUAN | ANDREW | KEO
QUARTEY | MONA | HELEN KABUKI
QUEK | KARA | TZE-MIN
QURAINI | SAMEER | ABDUL MUTI
RABSON | YOKO
RADFORD | STEPHEN | JAMES
RAGGHIANTI | BRETT | ROBERTS
RAGHAVAN | VEERAVALLI
RAGUSH | SHEILA | JEAN
RAJU | SANGEETA
RAMAGE | JOCELYN | A
RAMAGE | WILLIAM | D
RAMANATHAN | SRINIVAS
RAMIREZ-AITKEN | YAZMIN | MARIA
RAMSDEN | JOYCE | ELAINE
RAMSMEIER | ELVIRA | DOLLY
RANK | ESTHER | JEAN WILKINSON
RAPPAPORT | DANIEL | CHARLES
RASHEED | AHMED | MOHAMMED
RAUM | MARC
RAYNER | GEORGIA | ALEXANDRA
REED | DANIEL | HARRY
REED | RONALD | RAY
REGE-VOLPE-DEPIERRE | FRANCES | MARIE
REHAK | JOHANNES | BLAKE
REICHSTEIN | ESTHER
REILLY | PAULA | BRID
REMBAUD | MONIQUE | ELIZABETH
REMENYI | LINDA | JEAN
RENAULT | CATHERINE | GISELE
RENTROP | CHRISTINE | MARIA
REUNIS | MARC | RENE BRUCK
REUSSER | PETER | ULRICH
REZNICK | SHULAMITH
RHEE | WON | JAI
RIADY | JOHN
RICE | THOMAS | UMAR
RICHARD | MARIE-JEANNE | OONA
RICHER | LAURIE | PAMELA
RICHESON | DAVID | RANDALL
RIEBESELL | MABEL | VIOLET THELMA
RING | CURTIS | PHILLIP
RING | JACQULINE | KAE
RIOUX | GILES | ROGER
RITTER | KARL | THOMAS
RITTER-GEKELER | MARIELE | JOYCE
RIVET | ALAIN | CHRISTIAN ROGER M.Y.G
ROBERTS | CAMILLE | M.
ROBERTS | JAMES | A.
ROBERTSON | AMANDA | JANE
ROESEL | TAMARA | LISA
ROESLER | WILLIAM | JAMES
ROESSEL | LILI | MARIE
ROGERS | ERIN | LYNNE CRYDERMAN
ROMAIN | KARINE | MICHELINE-MARIE
ROOLVINK | SHAUNA | LI
ROOSDORP | THOMAS | NICOLAAS
ROSEN | JUDITH | ROSE
ROSENBAUM | LEAH | BLIMI
ROSS | KELLY-ANN
ROSS | ROBERT | COLLINS
ROSS | TANNICE | ROBERTA
ROSSELLI | MARK | CHARLES
ROSSELLINI | EDVIGE | FORTI
ROSSETTI | JOHN | EDWIN
ROSSI | GERALD | FRANCIS
ROTH | CATHERINE | SYLVIA
ROTHUIZEN | LAURA | EUGENIE
ROUSE | PETER | E.
ROUSSEAU | ERIC | JOSEPH
ROUYER | NATHALIE | SHARLEEN
ROVIRA | FRANCISCO | ARNER
ROWE | ALLISON | MORGANNE
RUBENSTEIN | ANDREA | DIANE
RUDD | GERIANNE
RUFF | MARCUS | STEPHEN
RUNDLE | ELIZABETH | GALE
RUPP | MARTIN | WILLIAM
RUSCH-MUELLER | BARBARA | CAROL
RUTHER | POLLYANN | S
RUTLEDGE | JARED | CLINTON
RUTLEDGE | JESSICA | DIANNE
RYAN | MICHAEL | EDWARD
SABIDUSSI | MENEGA | JOHANNA
SABRI | ALAIN | N
SACHDEV | ARJUNN | SINGH
SACKELA | ROSE | MARIE
SALANT III | ROBERT | STEPHEN
SALAS | DENNIS | MICHAEL
SALERNO | CORRIE | LYNN
SALKAUSKAS | IISE
SALTIEL | MICHAEL | ARI
SAMAWI | HISHAM
SAMAWI | MARGIT | URSULA
SAMAYOA-USHER | ISABELLA | CATARINA
SAMBOL | LINDA | MARIE
SAMOLUK | SARAH | ELIZABETH
SANDERS | DANIELA | CATHERINE JANE
SANTOS | MARK | DONALD
SASAKI | MANAMI
SAUNDERS | FRASER | WORDEN
SAUNDERS | PHILLIP | ROSS
SAVANT | JAYASHREE
SAVANT | SANDESH | RAQHUNATH
SAYER | ROWANNE
SCHERER | NELLY
SCHIESS | CHRISTIAN | DOUGLAS
SCHIESS | CHRISTOPHER | ROBERT
SCHIFF | KALMAN
SCHIFF | LEORA | ORA
SCHILCHER | OSKAR
SCHILD | BRIGITTE | ANNEMARIE
SCHILD | MARLEN | ELIZABETH
SCHLESSINGER | LAURA | ANN
SCHMID | LUKAS | ANDREAS
SCHMIDLIN | MOLLY | MOORE
SCHMIT | FREDERIC | HENRI
SCHMITZ | ROSINE | MARIE
SCHNEIDER | HENRY
SCHOCH | ERIC | GUSTAV
SCHOENENBERGER | MIRIAM | JOHANNA
SCHORNO | KATHLEEN | MARIE
SCHORNO | TAYLOR | RYAN
SCHRIEVER | FOLKE
SCHROEDER | CARRIE | ELIZABETH
SCHROPP | MANFRED
SCHUBERT | GERSENDE | ANNE-AYMONE
SCHULZ | EUNICE | JEAN
SCHWARTZ | ARNOLD
SCHWARTZ | ELLEN | RAE
SCHWARTZ | WILLIAM
SCHWEIZER-CARUSO | JENNIFER | SARAH
SCHWOB | MARC | JOSEPH
SCOTT | RAYMOND | JOHN
SEATON | SUSAN | JANE
SEHIC | SABAN
SEHN | NOLA | ROXANNE
SELBIG | BEATE | LOTTE
SELDON | HENRY | LEE
SEMELMAN | ELYSE | NICOLE
SEMELMAN | STEVEN | ALAN
SERVAIS | JUERGEN
SERVAIS | VIVIANE
SHADEED | GERALD | NICHOLAS
SHAH | RAVIN | MINESH
SHAIKH-OMER | MAJID | ABDULRAZZAQ
SHAIR | TALAL | KAMAL
SHANNON | JAMES | WILLIAM ANTHONY
SHAPS | ALEXANDER | PHILLIP KEN
SHARMA | KRISTINA | SUE
SHARP | PATRICK | RODNEY
SHATZKES | PAMELA | JOY
SHAW | PAISLEY | TERRA
SHEETS | ALAN | WAYNE
SHEN | AI | KEN
SHEN | MEI-MEI
SHEPHERD | MICHAEL | ALAN
SHETH | MAHENDRA | CHHOTALAL
SHIELDS | EDWARD
SHIMMURA | MITSUYO
SHIN | HYE | JIN
SHIN | LAUREN
SHIN | SANG
SHINER | JOHN | STEWART
SHIPNOSKI | ANDRE | FRANCIS
SHIU | ANGELA | YUEN YUEN
SHLADOV | TAL | GOTTINER
SHUI | DI
SHULTZ | THOMAS | RICHARD
SHUM | JERRY
SIDDALL | GERALD | NOEL
SIDDALL | NAMICE | MOIRA FLEEK
SIDENBERG | CHERYL | LEIGH
SIGNER | CHRISTOPHER
SILBERMAN | MIA | HELEN
SIM | SOON-SONG | TIMOTHY
SIMPSON | MARYANN
SINCLAIR | KIRI | VICTORIA
SINCLAIR-LAPPI | KRISTA | STEPHANIE
SINGAL | SUNIL | HEINEN
SINGH | GURDIP
SKOLDEBRAND | CATHARINA | ELISABETH SANDSTROM
SKREINIG | MARILIA | AISLYNN RIBEIRO
SLATNER | NICOLE | A
SLEESWIJK | FRANCES | CORINE WEGENER
SLOAN | SONNEN | MARCELLA
SLOAN GELDARD | MILES | ANTHONY
SMALL | CHARLES
SMALLEY | PAMELA
SMITH | BRUCE | M
SMITH | DAVID
SMITH | INESE | AUZINS
SMITH | JASON | GERALD
SMITH | NANCY | EILEEN ANNE-MARIE MORRISON
SMITH | RONALD | CLINTON
SMITH | RUTH
SMITH | SAMUEL | TRAINOR
SMYKE | PAUL | JOSEPH
SNIDER | DUSTIN | LEE
SNOW | SOMER | JACLYN
SNOWER | DAVID | BERNARD
SO | JANET | KWAN
SOLLBERGER | CALVIN
SOMMER | JENNIFER | JOANNE KAYS
SOMMER | LAURENT | HUBERT
SOMMERS | KATJA
SONG | REY-LIN
SOPHONPANICH | SIRIPORN
SORENSEN | NIELS
SORENSEN | SUZANNE | CAROL
SORRELL | EMMA | JANE
SOUKUP | JULIAN | HENDRIJ
SPENCER | KRISTEN | LYNNE
SPERBER | DAWN | LEIA
SPILLER | YUKO
SPINGLER | ROLF | ARNOLD
SPRINGATE | CHARLOTTE | A
SPYROPOULOS | CHRISTINE
ST GEORGE | FIONA | MICHELLE
ST LAURENT | DENISE | MARIE-EVELYNE
STACEY | ASHLEY | LYNNETTE
STADELMANN | MARK | BRIAN
STALKER | JOHN | GARRETT
STAMENOV | VALENTIN | I
STAMP | ALTHEA | PATRICIA DAWES
STANBURY | SUSAN | MARY
STANIFORTH | SEAN | MICHAEL
STANNER | NICOLE | MIMI
STARINK | INGRID | E
STCHEDROFF | NIELS | DANIEL
STEEGMANN | KEVIN | RAY
STEGGLES | MARY | ANN
STEIG | ASAKO
STEINMETZ | LINDA | MAE
STEINMETZ | NICO | PIERRE
STEINREICH | AUDREY
STEINREICH | GARY | ABE
STENIG | JOHN | MARC
STERCK | KATHERINE | ELIZABETH
STERRETT | JAMES | ROGER
STEVENS | MARIE | ELISABETH
STEWART | GARY | DOUGLAS
STEWART | JO-ANNE | MARGARET
STIENSTRA | CAROLYN | SUE
STOBBE | PAULINE | GWEN
STOCKDALE | JANE | CHURCHILL
STOLL | LIISA
STORK | FRANCOIS | GERARD
STORK | PAUL | JACOB
STOUFFER | DONALD | JAMES
STRATH | LORIE | BELL
STRAUGHAN | TIMOTHY | ASHBY
STREBEL | STEPHEN | CURT
STRILCHUK | GLADYS | MARY
STUART | PHILIP | FRAZER
STUBBLEBINE | ROBERT | HARVEY
STUBBS | IAIN | PATRICK
STUBBS | ROBERT | LAWRENCE
SUGASAWA | CHIEKO
SUGASAWA | KIYOSHI
SUHEIBANI | JANAN | ABDUL-RAHMAN
SUKRI | EDWIN
SULLER | GARETH | DAVID
SULZER | ALFRED | ROBERT
SUN | TIFFANY | CHYI-HONG
SUNG | SOPHIA
SUNG | TAE | RAN
SUSSI | GIAN | MARCO
SUTTER | LYDIA | MARIA
SUZUKI | TAMIKO | LYNDA
SWEENEY | MARY | ALETHA
SWIFT | KAREN | JUDITH
SWITZER | ELINOR | NATALIE
TAJIRI | MAI
TAKEZAWA | NAHOYA
TALMAGE | WILLIAM | STUART JOHN
TAM | ALESSANDRA
TAN | AUDREY | POH POH
TAN | LI | CHING
TAN | SANDRA | VUOCH HONG
TANG | SUSAN
TANKOANO | JEAN | LUC
TANNENBAUM | JEREMY | ADAM
TARRANT | SETH | MICHAEL
TATE | STEPHEN | ANDREW
TATEISHI | TOMONORI
TATEISHI | TOSHIKO
TATHUM JR | DANIEL | RICHARD
TAY | BRYAN | YAN KEAT
TAY | XI | CHING
TAYLOR | CHLOE | EMMA
TAYLOR | ELIZABETH | COLSTON
TAYLOR | TANA | MARIE MCCOY
TAYMANS | JOSEPH | MARIE
TEAL | PATRICIA | KATHLEEN
TEBO | STEPHEN | L.
TEGEL | SUSAN | LOUISE
TEMES | MARVIN | JOHN
TEO | ANNABELLE | XIANG-PING
TERASHIMA | HISASHI
TESTERMAN | DONNA | MARIE
THAI | JULIE | HONG-HANH
THAM | BRIAN | KAR LEONG
THERRIEN | GUY | ALYRE
THERRIEN | SUZANNE | MARIETTE
THOMANN | ERIC | VALENTIN
THOMPSON | IAIN | ROY
THOMPSON | SARA | JANE
THOMPSON | TANYA | RACHEL TAUB
THORNE | LORRAINE | MARY
THORNTON | ELISABETH | ERIKA
TING | WENDY | WAN-CHUN LIAO
TIZ | ATARA
TOLOMEO | DOMENICO | PIETRO
TRAN-BA-HUY | SANDRINE | OLIVIA
TRAVIS | TERRA | RENAE
TREMP | MARTIN
TREMP | NELLY
TRINE | NATHALIE | LUCIENNE
TROTTIER | JEAN-PAUL
TROXEL | BRIAN | MARCEL
TROXEL | LINDA | FAITH
TSCHAN | COLLEEN | DURAN
TSUI | DENISE | HIU TUNG
TUCKER | BENJAMIN | CHARLES
TUCKER | DELTON | RAY
TUPE | SAMBHAJI | RAGHUNATH
TURNBULL | RICHARD | BRIAN
TURNOVSZKY | HANS | DOMINIC
TUSCHER | GABRIELLE
TYLER | LYNN | KATHLEEN
UEHARA | NOBUYUKI
UHE | ROBERT | ERICSON
UHLIG | DANIEL | ALEXANDER
UIKE | KYOKO | NADJA
UNGER | SHARON | JOY
URGOITI | MARTIN | MARIA
UVIMOLCHAI | CHAISIRI | ALEX
VACHON | JACQUES | PIERRE
VAIO | ERNEST | LLOYD
VALLECOCCIA | GUGLIEMINA | CLOTILDE
VALLIERE | VICTORIA | J
VAN BAKEL (NEE: CROWLEY) | MARGARET | ELLEN
VAN DAM | BRONWYN | MARY
VAN DER MEULEN | BEVERLY | J
VAN DER MEULEN | JOHN | ERNEST
VAN DER MEULEN | MARK | A
VAN HOLST | RUTH | JANKE
VAN LENT | ANNE | MARIETTE
VAN OSTRAND | CHRISTOPHER | ALAN
VANDENBERG | ELEONORA | CHRISTINA
VANON | CAROLINE
VARADI | STEPHANIE | BEATRICE
VAUGHN | SARA | THERESE MELIA
VEHOVAR | LARA | TIA
VEILLEUX | LISA | MARIE
VELONA | MADDALENA | AGNESE
VEREY | KATRINA | NICOLE
VERNON | PHILIP | CLAUDE
VICUNA | RAFAEL | AUGUSTO
VILCHIS | GIOIA | FRANCESCA DEUCHER
VILLANUEVA | GIOVANNA
VIRGILIO | PATRICIA | ANN
VISSCHER | SHARLA | MARIE
VIZCARRA | RACHEL | MARIE
VOCKEROTH | NADINE
VOGT | NICOLE | BARBARA FERRIER
VOITH | STEPHAN | GERHARD
VOLIO | JULIAN
VOLLEY | AXEL | WERNER
VOLLMER | SEBASTIAN | RALF
VON DER SCHULENBURG | FELICIA | FREDERICA
VON EUW | NANCY | VERNA
VRBENSKY | CYNTHIA | MAY
WACHTER-BODENSTEIN | MARIA | CHRISTINA
WADY | KATHRYN | MAY
WAEBER | SABINE
WAGSTAFF | DAVID | IAN
WAHLBACK | PETER | RICHARD
WAKEMAN | JEFFREY | ANDREW
WAKEMAN | OLGA
WALDNER | DAVID | JOSEPH
WALDSTEIN-WARTENBERG | NICOLETTE | ALICE
WALFISH | SHLOMO | DAVID
WALKER | CHARLES | TERRENCE
WALKER | GAY | PARSONS
WALKER | JACQUELINE | TALIA
WALKER | SCOTT | BRADLEY
WALL | ANN | MARIE
WALL | HENRY | BENJAMIN
WALLER | JOAN | RUTH
WALSH | NICHOLAS | MATTHEW
WALSH | SUZETTE | MARIE
WANG | ALVIN | TSAIHSIANG
WANG | ANN-JIUN
WANG | ARTHUR | X
WANG | BIN
WANG | DAVID
WANG | EDMOND
WANG | HUA | FENG
WANG | JIMMY | B
WANG | QINGGANG
WANG | SAMUEL | SHAO-EN
WANG | YAJUN
WANGSAWIDJAJA | EILIEN
WANTO | GRACE
WARDWELL | DOROTHEA
WARREN | KEVIN | MARION WILLIAM
WASSMER | MARTINA | LINDA
WASSMER | PETER | J
WATCHUS-LANDIN | MINERVA | SIERRA
WATKINS | TRACEY | L
WATTS | SETH | ROBERT
WEBER | IEITH | WILLIAM
WEBER-FROBOESE | IRENE | M
WEEKS | JONI | KAY
WEEKS | SUZANNE | ELIZABETH
WEIL | BETTY | MOLLY
WEISS | RICHARD
WEITZ | DANIEL | SHEA MASTERSON
WELLBELOVED | LORELEI | DIAN
WELTER | SALLY
WEN | ZHONG
WENER | SARAH
WENG | MICHAEL | CHIA-TE
WENNBERG | INGA | ELIZABETH
WERNER | LISE | MARIE
WEST | ANTHONY | PAUL
WHALEN | DIANA | CAROLINE
WHEATLEY | SIMON | CHARLES
WHEELER | MELANIE | ANN
WHETTER | CHRISTINE | RAE
WHITE | ANDREA | LOUISE
WHITE | JUDITH | ANNABELLE
WHITE | KATHERINE | EVE
WHITE | LAURA | ELIZABETH
WHITE | TYLER | JAMES
WIDERMAN | JANE | NANCY
WIDMER | STEPHAN
WIENS | CHERYL | LYNN
WIESENTHAL | JOSHUA | DANIEL
WILHELM | JANE | ELISABETH
WILLEMS | THILO | MARTIJN
WILLIAMS | RACHEL | CARON
WILLIAMS | VICTORIA | ROSE
WILSON | ALICE | PO
WILTSCHUT | JOHN
WINAND | YVONNE | LESLEY
WINGERT | CLARENCE | JOHN
WINGET | CATHERINE | GWEN
WINSOR | INA | GAIL BLITZ
WINTER | AJKE | NAOMI
WINTER-DESCHAMPS | SABINE | CHRISTIANE
WOGSBERG | LA VERIA | HATTIE
WOLFE | THOMAS | WILLIAM
WOLKEN | GEORGE | MATHEW
WOLLEB | ALFRED
WONG | CLAUDIA
WONG | WEI | HENG BRYAN
WOO | LAWRENCE | HING-KEUNG
WOO | TIFFANY | TAK YUNN
WOOD | SCARLETT | BURWELL
WOODCOCK | LINDA | MARIE
WORKUM | JESSICA | DORIS
WRIGHT | PATRICK | LEE
WRIGLEY | KEVIN | JOSEPH
WU | DENNIS
WU | SHU | MEI
WU | YIO | YING
WUERMLI | KAREN | POTTER
WYDER | MARIAN | LEONIE
XU | YING
XU | ZHIHAN
XUEREB | JOSEPHINE
YAFFE | DEBORAH | RACHEL
YAMAKI | HIROSHI
YAMAKI | TOMOKO
YANG | CHIEH | KAI
YAO | TIFFANY | LU
YAP | KAH | YEE
YARISAL | LENORE | THERESA
YEE | HOWARD | HO WAN
YENNY | FRANCOIS | JACQUES
YEO | SAMANTHA | KE WEN
YETERIAN | CHARLES
YOO | CHORONG
YOUNESS | AMRE | ABDELHAMID
YOUNG | CHARLENE | KATHARINE
YOUNG | JOHATHAN | HOLMAN
YOW | RYAN
YU | ARTHUR | YUNG LIN
YU | RANDY
YUEN | PETER | CHARLES
YUZAWA | HIDEKO
YUZAWA | MUNEYASU
ZACHARIAH | LOIS | CATHERINE
ZAHEDIVASH | FARIBA
ZAHID | FAISAL | M
ZAININGER | LOUISA | MARLEN
ZALSMAN | BARUCH | NERI
ZAPHIRIOU-ZARIFI | HEBA | JADE
ZAVADIL | ANNE | DESIREE
ZEASER | DONALD | BRUCE
ZEE | JENNIFER
ZEHNDER | BRANDON | DILLON
ZHAI | JIANPING
ZHANG | JING
zhang | yuhong
ZHANG | ZISHU
ZHU | XUPING
ZIADEH | NEDA | BASSEM
ZIMMERLI-NING | MAY | KERMAI
ZOBEL | JILL | ANNE
ZOBELL | MICHELE | THOMSON
ZUECKER | NICHOLAS | WERNER
ZUKER | GENEVIEVE | LORRY
ZURBRIGGEN | LEA | REBECCA
ZURBRUEGG | MARK | ANDRE
ZWEIFEL | PATRICIA | ERIKA

Date: July 24, 2017.
Maureen Manieri,
Manager Classification Team 82413, Examinations Operations—Philadelphia Compliance Services.

[FR Doc. 2017-16318 Filed 8-2-17; 8:45 am]

BILLING CODE 4830-01-P